DEPARTMENT OF STATE

[Public Notice: 8805]

30-Day Notice of Proposed Information Collection: Foreign Service Officer Test Registration Form

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 21, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Claudia M. Coleman, HR/REE, SA-1, H-518, 2401 E Street NW., Washington, DC, who may be reached on 202.203.5126 or at colemancm@state.gov.

SUPPLEMENTARY INFORMATION:

• Title of Information Collection: Foreign Service Officer Test Registration Form.

• OMB Control Number: 1405-0008.

• Type of Request: Extension.

• Originating Office: HR/REE/BEX.

• Form Number: DS-1998E.

• Respondents: Registrants for the Foreign Service Officer Test.

• Estimated Number of Respondents: 32,000.

• Estimated Number of Responses: 32,000.

• Average Time Per Response: 2 hours.

• Total Estimated Burden Time: 64,000.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: Individuals registering for the Foreign Service Officer Test will complete a registration form that consists of an application form that gathers information about their name, age, Social Security Number, contact information, sex, race, national origin, disability, education, work history, and military experience. The information will be used to prepare and issue admission to the Foreign Service Officer Test, to provide data useful for improving future tests and to conduct research studies based on the test results.

Methodology: Responses are submitted electronically.

Additional Information:

Dated: July 17, 2014.
Matthew D. Smith,
Deputy Executive Director, HR/EX, Department of State.

[FR Doc. 2014-17239 Filed 7-21-14; 8:45 am]

BILLING CODE 4710-15-P